DEPARTMENT OF COMMERCE

International Trade Administration

Agency Information Collection Activities: Proposed Collection Comment Request

TITLE: Internet Export Finance Matchmaker.

ACTION: Proposed collection; comment request.

SUMMARY: The Department of Commerce, as part of its continuing effort to reduce paperwork and respondent burdens, invites the general public and other Federal agencies to take this opportunity to comment on the continuing information collections, as required by the Paperwork Reduction Act of 1995, Public Law 104-13 (44 U.S.C. 3506(c)(2)(A)).

DATES: Written comments must be submitted on or before May 26, 2000.

ADDRESSES: Direct all written comments to Linda Engelmeier, Departmental Forms, Clearance Officer, (202) 482-3272, Email Lengelme@doc.gov., Department of Commerce, Room 5027, 14th & Constitution Avenue, NW, Washington, D.C. 20230.

FOR FURTHER INFORMATION CONTACT: Request for additional information or copies of the information collection instrument and instructions should be directed to: John Shuman, Office of Finance, Room 1800. The U.S. Department of Commerce, 14th & Constitution Ave., NW, Washington, D.C. 20230; Phone number: (202) 482-3277.

SUPPLEMENTARY INFORMATION:

I. Abstract

The Office of Finance assists U.S. firms in identifying trade finance opportunities and promotes the competitiveness of U.S. financial services in international trade. The Office of Finance interacts with private financial institutions in insurance, banking, leasing, factoring, barter, and counter trade; U.S. financing agencies, such as the Export-Import Bank and the Overseas Private Investment Corporation; and multilateral development banks, such as the World Bank, Asian Development Bank, and others. To facilitate contact between exporters and financial institutions, the Office of Finance is developing an interactive INTERNET trade finance match-making program to link exporters seeking trade finance with banks and other financial institutions. The information collected from financial institutions regarding the trade finance products and services they offer will be compiled into a database. An exporter will be able to electronically submit a one page form identifying the potential export transaction and type of financing requested. This information will be electronically matched with the financial institution(s) that meet the requirements of the exporter. After a match has been made, a message will be electronically sent to both the exporter and the financial institution containing information about the match, and contact information for either party to initiate communication. This program is designed to implement the Department of Commerce's goal of improving access to trade financing for small business exporters.

II. Method of Collection

Electronic submission to the International Trade Administration, Office of Finance.

III. Data

OMB Number: 0625-0232.

Form Number: N/A.

Type of Review: Regular Submission.

Affected Public: Business or other for profit.

Estimated Number of Respondents: 2,000.

Estimated Time Per Response: Exporters: 10 minutes, Financial Institution: 30 minutes.

Estimated Total Annual Burden Hours: 350 hours.

Estimated Total Annual Costs: $21,000 (Government $8,750, Respondents $12,250).

IV. Request for Comments

Comments are invited on (a) whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: March 21, 2000.
Linda Engelmeier,
Departmental Forms Clearance Officer, Office of the Chief Information Officer.

[FR Doc. 00-7423 Filed 3-24-00; 8:45 am]

BILLING CODE 3510-DR-P